DEPARTMENT OF LABOR

Employment and Training Administration

Notice of a Public Meeting of the Advisory Committee on Apprenticeship (ACA)

AGENCY: Employment and Training Administration (ETA), Labor.

ACTION: Notice of a public meeting.

SUMMARY: Pursuant to Section 10 of the Federal Advisory Committee Act (FACA) (5 U.S.C. App. 2 § 10), notice is hereby given to announce a public meeting of the Advisory Committee on Apprenticeship (ACA) on March 3-5, 2014. The ACA is a discretionary committee established by the Secretary of Labor, in accordance with FACA, as amended in 5 U.S.C. App. 2, and its implementing regulations (41 CFR 101-6 and 102-3). All meetings of the ACA are open to the public.

DATES: The meeting will begin at approximately 1:00 p.m. Eastern Time on Monday, March 3, 2014, at the U.S. Department of Labor, Frances Perkins Building, 200 Constitution Avenue NW., Room C5515, 1A and 1B, Washington, DC 20210, and will continue until approximately 4:00 p.m. The meeting will continue on Tuesday, March 4, 2014, at approximately 8:30 a.m. Eastern Time at the AFL-CIO, 815 16th Street NW., Washington, DC 20005, until approximately 4:00 p.m. The meeting will reconvene on Wednesday, March 5, 2014, at approximately 9:30 a.m. Eastern Time at the U.S. Department of Labor, and adjourn at approximately 12:00 noon. Any updates to the agenda and meeting logistics will be posted on the Office of Apprenticeship's homepage: http://www.doleta.gov/oa/.

FOR FURTHER INFORMATION CONTACT: The Designated Federal Official, Mr. John V. Ladd, Administrator, Office of Apprenticeship, Employment and Training Administration, U.S. Department of Labor, 200 Constitution Avenue NW., Room N-5311, Washington, DC 20210, Telephone: (202) 693-2796, (this is not a toll-free number).

SUPPLEMENTARY INFORMATION: In order to promote openness, and increase public participation, webinar and audio conference technology will be used throughout the meeting. Webinar and audio instructions will be prominently posted on the Office of Apprenticeship homepage: http://www.doleta.gov/oa/. Members of the public are encouraged to attend the meeting virtually. For members of the public wishing to attend in person, a listening room, with limited seating, will be made available upon request. Members of the public are encouraged to arrive early to allow for security clearance into the Frances Perkins Building.

Security and Transportation Instructions for the Frances Perkins Building

Meeting participants should use the visitor's entrance to access the Frances Perkins Building, one block north of Constitution Avenue on 3rd and C Streets NW. For security purposes meeting participants must:

1. Present valid photo identification (ID) to receive a visitor badge.

2. Know the name of the event you are attending: The meeting event is the Advisory Committee on Apprenticeship.

3. Visitor badges are issued by the security officer at the Visitor Entrance located at 3rd and C Streets NW., as described above.

4. Laptops and other electronic devices may be inspected and logged for identification purposes.

5. Due to limited parking options, Metro rail is the easiest way to access the Frances Perkins Building. For individuals wishing to take metro rail, the closest metro stop to the building is Judiciary Square on the Red Line.

Security and Transportation Instructions for the AFL-CIO Headquarters Building

Meeting participants should use 815 16th Street NW., Washington, DC, to access the AFL-CIO Headquarters Building. For security purposes meeting participants must:

1. Present valid photo identification (ID) to receive a visitor badge.

2. Know the name of the event you are attending: The meeting event is the Advisory Committee on Apprenticeship.

3. Parking is limited to public parking garages. Metro rail is the easiest way to access the AFL-CIO Headquarters Building.

4. For individuals wishing to take metro rail, the closest metro stop to the building is McPherson Square on the Orange and Blue Lines.

Notice of Intent To Attend the Meeting

1. All meeting participants are being asked to submit a notice of intent to attend by Friday, February 14, 2014, via email to Mr. John V. Ladd at oa.administrator@dol.gov, with the subject line “March 2014 ACA Meeting.”

2. Please indicate if you will be attending virtually, or in person, to ensure adequate space is arranged to accommodate all meeting participants.

3. If individuals have special needs and/or disabilities that will require special accommodations, please contact Kenya Huckaby on (202) 693-3795 or via email at huckaby.kenya@dol.gov no later than Friday, February 14, 2014.

4. Any member of the public who wishes to file written data or comments pertaining to the agenda may do so by sending the data or comments to Mr. John V. Ladd via email at oa.administrator@dol.gov, subject line “March 2014 ACA Meeting,” or to the Office of Apprenticeship, Employment and Training Administration, U.S. Department of Labor, Room N-5311, 200 Constitution Avenue NW., Washington, DC 20210. Such submissions will be included in the record for the meeting if received by Friday, February 14, 2014.

5. See below regarding members of the public wishing to speak at the ACA meeting.

Purpose of the Meeting and Topics To Be Discussed

The primary purpose of the meeting is to discuss and focus on Advancing Registered Apprenticeship in the 21st Century, Youth Participation in Registered Apprenticeship and Lessons and Developments of Registered Apprenticeship in the Construction Industry. The meeting agenda will include the following topics:

• Dialogue on policies to advance apprenticeship including updates on the ACA's Vision Report;

• Registered Apprenticeship: Lessons and Issues in the Construction Industry;

• Youth Apprenticeship Panel: Highlighting State's School to Apprenticeship and Youth Apprenticeship Models;

• Briefing from the Center for American Progress on their December 2013 report entitled, “Training for Success: A Policy to Expand Apprenticeship in the United States”;

• ACA Workgroup Updates and Report Outs;

• Other Matters of Interest to the Apprenticeship Community;

• Public Comment; and Adjourn

The agenda and meeting logistics may be updated should priority items come before the ACA between the time of this publication and the scheduled date of the ACA meeting. All meeting updates will be posted to the Office of Apprenticeship's homepage: http://www.doleta.gov/oa/. Any member of the public who wishes to speak at the meeting should indicate the nature of the intended presentation and the amount of time needed by furnishing a written statement to the Designated Federal Official, Mr. John V. Ladd, by Friday, February 14, 2014. The Chairperson will announce at the beginning of the meeting the extent to which time will permit the granting of such requests.

Signed at Washington, DC, this 31st day of January 2014.
Eric M. Seleznow,
Acting Assistant Secretary for the Employment and Training Administration.

[FR Doc. 2014-02663 Filed 2-6-14; 8:45 am]

BILLING CODE 4510-FR-P